DEPARTMENT OF HOMELAND SECURITY

[DHS Docket No. DHS-2009-0032]

Office for Civil Rights and Civil Liberties: Guidance to Federal Financial Assistance Recipients Regarding Title VI Prohibition Against National Origin Discrimination Affecting Limited English Proficient Persons

AGENCY: Office for Civil Rights and Civil Liberties, DHS.

ACTION: Notice; extension of comment period to July 17, 2010.

SUMMARY: The Department of Homeland Security is extending the public comment period until July 17, 2010, for proposed guidance to recipients of Federal financial assistance regarding Title VI's prohibition against national origin discrimination affecting limited English proficient persons. This proposed guidance is issued pursuant to Executive Order 13166 and is consistent with government-wide guidance previously issued by the Department of Justice.

DATES: Written comments are invited from interested persons and organizations no later than July 17, 2010.

ADDRESSES: Comments should be sent to:

• Federal eRulemaking Portal: http://www.regulations.gov. Follow the instructions for submitting comments.

• Mail: Officer for Civil Rights and Civil Liberties, U.S. Department of Homeland Security, 245 Murray Lane, SW., Building 410, Washington, DC 20528, Mail Stop 0190. To ensure proper handling, please reference DHS Docket No. DHS-2009-0032 on the correspondence. This mailing address may also be used for paper, disk, or CD-ROM submissions. DHS will accept comments in alternate formats such as Braille, audiotape, etc. by mail.

• E-Mail: crcl@dhs.gov. The subject line should include “LEP Docket DHS-2009-0032.”

• TTY: 202-401-0470, Toll Free TTY: 1-866-644-8361. TTY callers may also contact us through the Federal Relay Service TTY at (800) 877-8339. Other Federal Relay Service options are available at www.gsa.gov/fedrelay.

• Facsimile: (202) 401-4708 (not a toll-free number).

Instructions for filing comments: All submissions received must include the agency name and DHS docket number DHS-2009-0032. All comments received (including any personal information provided) will be posted without change to http://www.regulations.gov.

Reviewing comments: Public comments may be viewed online at http://www.regulations.gov.

FOR FURTHER INFORMATION CONTACT: Rebekah Tosado, Senior Advisor to the Officer for Civil Rights and Civil Liberties, Office for Civil Rights and Civil Liberties, Department of Homeland Security, 245 Murray Lane, SW., Building 410, Washington, DC 20528, Mail Stop 0190. Toll free: 1-866-644-8360 or TTY 1-866-644-8361. Local: 202-401-1474 or TTY: 202-401-0470.

SUPPLEMENTARY INFORMATION: The Department of Homeland Security issued proposed guidance on June 17, 2010, for recipients of Federal financial assistance regarding Title VI's prohibition against national origin discrimination affecting limited English proficient persons. 75 FR 34465. Due to inadvertence, the date specified for receipt of comments did not permit a full 30 day comment period. Accordingly, the Department of Homeland Security is extending the comment period to July 17, 2010.

Margo Schlanger,
Officer for Civil Rights and Civil Liberties.

[FR Doc. 2010-16362 Filed 7-2-10; 8:45 am]

BILLING CODE 9110-9B-P